DEPARTMENT OF AGRICULTURE

Forest Service

White River National Forest; Colorado; Wild and Scenic Rivers Suitability Study

ACTION: Notice of intent to prepare an environmental impact statement.

AGENCY: U.S. Forest Service, USDA.

SUMMARY: The Forest Service is conducting a Wild and Scenic Rivers suitability study on four eligible river segments described in the WRNF Land and Resource Management Plan 2002 Revision. These segments are Colorado River Segments 1 and 2 and Deep Creek Segments 1 and 2. The results of the suitability study will be analyzed and incorporated into the Bureau of Land Management, Glenwood Springs and Kremmling Field Offices Environmental Impact Statement for their Resource Management Plan Revisions that is already underway. Separate Records of Decision will be issued for the Forest Service as well as the Bureau of Land Management.

DATES: Comments and resource information should be submitted to the Forest Service by December 2, 2008. Public open house meetings will be held in Glenwood Springs, Colorado, on November 20, 2008, and in Eagle, Colorado, on November 24, 2008. The meetings will be held from 4:30 p.m. to 6:30 p.m. The draft environmental impact statement is expected in September 2009.

ADDRESSES: Written comments may be submitted by any of the following methods:

• Fax: (970) 468-7735

• E-mail: wrnf_scoping_comments@fs.fed.us

• Hard copy: Peech Keller, NEPA Coordinator, White River National Forest, P.O. Box 620, Silverthorne, CO 80498.

FOR FURTHER INFORMATION CONTACT: Peech Keller, 970-262-3495.

SUPPLEMENTARY INFORMATION: The Forest Service is conducting a Wild and Scenic Rivers suitability study on four eligible river segments described in the White River National Forest Land and Resource Management Plan 2002 Revision. These segments are Colorado River Segments 1 and 2 and Deep Creek Segments 1 and 2. The suitability analysis will follow the guidance in FSH 1909.12 (Land Management Handbook), Chapter 80 (Wild and Scenic River Evaluation), and guidance from the Interagency Wild and Scenic Rivers Coordinating Council. The results of the suitability study will be analyzed and incorporated into the Bureau of Land Management, Glenwood Springs and Kremmling Field Offices Resource Management Plan Revisions and associated Environmental Impact Statement that is already underway. The final environmental impact statement is expected in July 2010. The anlaysis will tier from the White River National Forest Land and Resource Management Plan 2002 EIS and incorporate the White River National Forest Land and Resource Management Plan. Separate Records of Decision will be issued from the Forest Service as well as the Bureau of Land Management.

Purpose and Need for Action

To meet the requirements of the Section 5(d)(1) of the Wild and Scenic Rivers Act of 1968 (16 U.S.C. 1271-1287; Pub. L. 90-542, 82 Stat. 906, as amended), which directs federal agencies to consider potential Wild and Scenic Rivers in their land and water planning process, the White River National Forest completed the eligibility phase of the Wild and Scenic Rivers study for four segments of the Colorado River (Glenwood Canyon) and Deep Creek during its 2002 Land and Resource Management Plan Revision. The Forest Service is now preparing a wild and scenic river study report to determine the suitability of these segments for possible inclusion in the National Wild and Scenic Rivers System. Section 5(d)(1) of the Wild and Scenic Rivers Act allows for the study of new potential wild and scenic rivers not designated under Section 3(a) or designated for study under Section 5(a) of the Act. Section 5(d)(1) states, “In all planning for the use and development of water and related land resources, consideration shall be given by all Federal agencies involved to potential national, wild, scenic, and recreational river areas.”

Proposed Action

The Forest Service will conduct a suitability analysis on four eligible river segments described in the White River National Forest Land and Resource Management Plan 2002 Revision to determine which, if any, of the segments are suitable for inclusion in the National Wild and Scenic Rivers System. These segments are Colorado River Segments 1 and 2 and Deep Creek Segments 1 and 2. The eligibility phase of the analysis was completed for Deep Creek in a joint Forest Service and BLM study completed in 1995. The eligibility phase of the analysis was completed for the Colorado River segments in the Land and Resource Management Plan 2002 Revision.

The suitability analysis will follow the guidance in FSH 1909.12 (Land Management Handbook), Chapter 80 (Wild and Scenic River Evaluation), and guidance from the Interagency Wild and Scenic Rivers Coordinating Council.

Possible Alternatives

The Forest Service will analyze a reasonable range of alternatives. The Forest Service will take into consideration all issues raised during public scoping. As directed by FSH 1909.12, Chapter 80, the Forest Service will, at a minimum, analyze the following alternatives:

1. No action (continuation of current management);

2. National designation of all eligible segments of the river;

3. Protection of eligible segments by means other than national designation; and

4. Designation of some eligible segments.

Lead and Cooperating Agencies

The lead agency for this effort is the Bureau of Land Management, Glenwood Springs Field Office and Kremmling Field Office. The USDA Forest Service, White River National Forest is a cooperating agency.

Responsible Official

The Responsible Official for the Forest Service decision is Rick Cables, Rocky Mountain Regional Forester; 740 Simms St., Golden, CO 80401.

Nature of Decision To Be Made

The Forest Service will determine which, if any, of the four eligible segments studied for suitability are suitable for inclusion in the National Wild and Scenic Rivers System. If none of the segments are found suitable, they will be dropped from further consideration and managed according to the objectives and specific management prescriptions outlined in the White River National Forest Land and Resource Management Plan 2002 Revision. If a segment is found suitable, it will receive interim protection as described in the Wild and Scenic Rivers Act until Congressional action is taken regarding the segments' designation.

Scoping Process

Public open house meetings will be held in Glenwood Springs, Colorado, on November 20, 2008, and in Eagle, Colorado, on November 24, 2008. The meetings will be held from 4:30 p.m. to 6:30 p.m. The Forest Service will announce the public scoping meetings via local news media, mailings, and the Forest Service Web site (http://www.fs.fed.us/r2/whiteriver/). Comments concerning the scope of the analysis should be received by December 2, 2008.

Comments Requested

Comments and resource information should be submitted to the Forest Service within 30 days of this notice in the Federal Register. Comments of particular interest will provide information related to the factors described in FSH 1909.12 (Land Management Planning Handbook), Chapter 80 (Wild and Scenic River Evaluation), Section 82.41 (Basis for Suitability). They are as follows:

1. Characteristics that do or do not make the area a worthy addition to the National System. These characteristics are described in the act (paras. 2 through 7) and may include additional suitability factors in paragraphs 8 through 13.

2. The current status of land ownership and use in the area.

3. The reasonably foreseeable potential uses of the land and water that would be enhanced, foreclosed, or curtailed if the area were included in the National System.

4. The federal agency that will administer the area should it be added to the National System.

5. The extent to which the agency proposes that administration of the river, including the costs thereof, be shared by state and local agencies.

6. The estimated cost to the United States of acquiring necessary lands and interests in land and of administering the area should it be added to the National System.

7. A determination of the degree to which the state or its political subdivisions might participate in the preservation and administration of the river should it be proposed for inclusion in the National System.

The following additional suitability factors may also be considered:

8. An evaluation of the adequacy of local zoning and other land use controls in protecting the river's outstandingly remarkable values by preventing incompatible development.

9. The state/local government's ability to manage and protect the outstandingly remarkable values on nonfederal lands. This factor requires an evaluation of the river protection mechanisms available through the authority of state and local governments. Such mechanisms may include, for example, statewide programs related to population growth management, vegetation management, water quantity or quality, or protection of river-related values such as open space and historic areas.

10. Support or opposition to designation. Assessment of this factor will define the political context. The interest in designation or nondesignation by federal agencies; state, local and tribal governments; national and local publics; and the state's Congressional delegation should be considered.

11. The consistency of designation with other agency plans, programs, or policies and in meeting regional objectives. Designation may help or impede the goals of Tribal governments, or other federal, state or local agencies. For example, designation of a river may contribute to state or regional protection objectives for fish and wildlife resources. Similarly, adding a river that includes a limited recreation activity or setting to the National System may help meet statewide recreation goals. Designation might, however, limit irrigation and/or flood control measures in a manner inconsistent with regional socioeconomic goals.

12. The contribution to river system or basin integrity. This factor reflects the benefits of a “systems” approach, for example, expanding the designated portion of a river in the National System or developing a legislative proposal for an entire river system (headwaters to mouth) or watershed. Numerous benefits may result from managing an entire river or watershed, including the ability to design a holistic protection strategy in partnership with other agencies and the public.

13. The potential for water resources development. The intent of the act is to preserve selected rivers from the harmful effects of water resources projects. Designation will limit development of water resources projects as diverse as irrigation and flood control measures, hydropower facilities, dredging, diversion, and channelization.

Early Notice of Importance of Public Participation in Subsequent Environmental Review: A draft environmental impact statement will be prepared for comment. The comment period on the draft environmental impact statement will be 90 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90 days comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: October 31, 2008.
Mary G. Morgan,
Acting Forest Supervisor, White River National Forest.

[FR Doc. E8-26610 Filed 11-6-08; 8:45 am]

BILLING CODE 3410-11-P